DEPARTMENT OF EDUCATION

Office of Innovation and Improvement; Overview Information: School Leadership Grant Program; Notice Inviting Applications for New Awards for Fiscal Year (FY) 2008

Catalog of Federal Domestic Assistance (CFDA) Number: 84.363A.

Dates:

Applications Available: March 3, 2008.

Deadline for Notice of Intent to Apply: April 2, 2008.

Dates of Pre-Application Meetings: March 31, 2008.

Deadline for Transmittal of Applications: May 2, 2008.

Deadline for Intergovernmental Review: July 1, 2008.

Full Text of Announcement

I. Funding Opportunity Description

Purpose of Program: The School Leadership program is designed to assist high-need local educational agencies (LEAs) in the development, enhancement, or expansion of innovative programs to recruit, train, and retain principals (including assistant principals) through such activities as:

• Providing financial incentives to aspiring new principals;

• Providing stipends to principals who mentor new principals;

• Carrying out professional development programs in instructional leadership and management; and

• Providing incentives that are appropriate for teachers or individuals from other fields who want to become principals and that are effective in retaining new principals.

Priorities: This competition includes one competitive preference priority and one invitational priority that are explained in the following paragraphs.

Competitive Preference Priority: This priority is from the notice of final priorities for discretionary grant programs, published in the Federal Register on October 11, 2006 (71 FR 60046). Under 34 CFR 75.105(c)(2)(i) we award up to an additional 15 points to an application, depending on how well the application meets this priority.

This priority is:

School Districts with Schools in Need of Improvement, Corrective Action, or Restructuring. Projects that help school districts implement academic and structural interventions in schools that have been identified for improvement, corrective action, or restructuring under section 1116 of Title I, part A, of the Elementary and Secondary Education Act of 1965 (ESEA), as amended by the No Child Left Behind Act of 2001.

Note: In addressing this priority, applicants are encouraged to describe how they will assess the specific instructional needs of the teachers and the academic needs of the student population in schools that have been identified for improvement, corrective action, or restructuring. Applicants are encouraged to use the information from the assessment and describe how the applicant will recruit, select, train, and support school leader candidates to address the teaching and learning challenges identified in the schools to be served by the project.

Invitational Priority: For FY 2008, this priority is an invitational priority. Under 34 CFR 75.105(c)(1) we do not give an application that meets the invitational priority a competitive or absolute preference over other applications.

This priority is:

Projects that develop and implement or expand innovative programs that address the leadership needs specific to schools in the high-need LEAs to be served by the project and that lead to the certification, hiring, and retention of principals or assistant principals in those schools.

Background: The Department recognizes the important impact that effective school leaders can have on teaching and learning. We know that successful principals promote in their schools a culture of achievement for all students. These principals hold themselves and others accountable for improving their schools. They work to ensure that teachers and other instructional staff have the resources and other supports they need to foster high academic achievement in all students.

In the course of administering the School Leadership program over the last six years, we have found that high-need LEAs typically encounter a number of barriers to recruiting, selecting, and retaining high quality principals and assistant principals. The Secretary believes the School Leadership program should assist these LEAs in overcoming these barriers and enhance their ability to retain school leaders qualified to address how to improve student academic achievement and other school challenges.

One of the barriers high-need LEAs face is recruiting a sufficient number of qualified and talented school leaders to serve in their schools. Only a limited number of individuals who are certified to work as principals or assistant principals choose to take a school leadership position in high-need LEAs, much less schools in need of improvement or corrective action. Some reasons prospective candidates avoid leadership positions in high-need LEAs include the long hours required, reduced job security, stress, and high levels of accountability for student achievement. Many candidates also have limited understanding of how to work in schools with high poverty rates, racial isolation, and low salaries for school personnel. In addition, unless they are well aligned with the conditions of a high-need LEA and the demands of its school leadership positions, State-approved certification programs may not adequately prepare potential candidates to assume responsibility as instructional leaders of their schools and greater school communities for effectively promoting increased student achievement of all students.

Data reported in the annual performance reports submitted to the Department by FY 2002 and FY 2005 School Leadership program grantees indicate that projects demonstrating the greatest success in meeting their application objectives were closely aligned with the needs of the LEAs served. According to these data, projects were successful if their school leadership development strategy (1) considered the leadership skills needed in a particular school context, and then (2) designed program curriculum and other supports to help program participants develop those skills.

Finally, while somewhat limited in scope, several studies have produced compelling evidence showing that retention of school leaders is linked to (1) rigorous selection criteria, as well as (2) preparation that is both aligned with national, State, or local standards, and includes job-embedded training linked to a well-articulated and designed mentoring and coaching strategy. (Hess, F.M., & Kelly, A.P. (2005). Learning to Lead: What Gets Taught in Principal Preparation Programs. Cambridge: Harvard University.) (Levine, A. (2005, March). Educating School Leaders. New York: The Education Schools Project, Teachers College Columbia University.)

Given the importance of developing school leaders who have the skills needed to help all students in schools in high-need LEAs achieve to high academic standards, the Secretary specifically invites applications that propose projects that will—

(1) Conduct an assessment to identify the school leadership needs of schools that are not being met by existing applicant pools and existing school leadership training programs;

(2) Develop and implement, or expand, an innovative program leading to certification of school principals and assistant principals (or both) that includes recruitment, selection, and training activities that address these unmet needs;

(3) Develop and implement innovative strategies to retain project participants in schools in need of improvement or corrective action; and

(4) Complete a high-quality project evaluation.

Program Authority: 20 U.S.C. 6651(b).

Applicable Regulations: (a) The Education Department General Administrative Regulations (EDGAR) in 34 CFR parts 74, 75, 77, 79, 80, 81, 82, 84, 85, 86, 97, 98 and 99. (b) The notice of final priorities for discretionary grant programs published in the Federal Register on October 11, 2006 (71 FR 60046).

Note: The regulations in 34 CFR part 79 apply to all applicants except federally recognized Indian tribes.

Note: The regulations in 34 CFR part 86 apply to institutions of higher education only.

II. Award Information

Type of Award: Discretionary grants.

Estimated Available Funds: $14,300,000.

Estimated Range of Awards: $250,000-$750,000.

Estimated Average Size of Awards: $500,000.

Estimated Number of Awards: 24-30.

Note: The Department is not bound by any estimates in this notice.

Project Period: Up to 60 months.

III. Eligibility Information

1. Eligible Applicants: High-need LEAs, consortia of high-need LEAs, or partnerships that consist of high-need LEAs, and nonprofit organizations (which may be a community- or faith-based organization), or institutions of higher education. Applicants are expected to identify and confirm in their applications that the participating LEA(s) meet the definition of “high-need” in section 2102(3) of the ESEA.

2. Cost Sharing or Matching: This program does not require cost sharing or matching.

3. Other Eligibility Information: Definition of “High-Need LEA.” An eligible application must propose a project that benefits one or more “high-need LEAs.” As defined in section 2102(3) of the ESEA, the term “high-need LEA” is an LEA—

(a)(1) That serves not fewer than 10,000 children from families with incomes below the poverty line, or (2) for which not less than 20 percent of the children served by the LEA are from families with incomes below the poverty line; and

(b) For which there is (1) a high percentage of teachers not teaching in the academic subjects or grade levels the teachers were trained to teach, or (2) a high percentage of teachers with emergency, provisional, or temporary certification or licensing.

So that the Department may be able to confirm the eligibility of the LEAs that projects propose to serve, applicants are expected to include information in their applications that demonstrates that each participating LEA in the project is a high-need LEA, as defined in section 2102(3) of the ESEA. Generally, this information should be based on the most recent available data on the number of children from families with incomes below the poverty line that the LEA serves. In this regard, when presenting evidence to support that each participating LEA meets the definition of a high-need LEA, an application should consider the following:

The Department is not aware of any consistent available LEA data—other than data periodically gathered by the U.S. Census Bureau—that would show that an LEA serves the required number or percentage of children (individuals ages 5 through 17) from families below the poverty line (as defined in section 9101(33) of the ESEA).

Note: The data that many LEAs collect on the number of children eligible for free- and reduced-priced meal subsidies may not be used to satisfy the requirements under component (a) of the statutory definition of high-need LEA. Those data do not reflect children from families with incomes below the poverty line, as that term is defined in section 9101(33) of the ESEA.

Therefore, absent a showing of alternative LEA data that reliably show the number of children from families with incomes below the poverty line that are served by the LEA, the Department expects that the eligibility of an LEA as a “high-need LEA” under component (a) will be determined on the basis of the most recent U.S. Census Bureau data. U.S. Census Bureau data are available for all school districts with geographic boundaries that existed when the U.S. Census Bureau collected its information. The link to the census data is: http://www.census.gov/hhes/www/saipe/district.html. The Department also makes these data available at its Web site at: http://www.ed.gov/programs/lsl/eligibility.html. (Although the Department posted this listing specifically for the Improving Literacy through School Libraries program, these same data apply to the definition of a “high-need LEA” used for purposes of eligibility under the School Leadership program.)

LEAs, such as newly formed school districts or charter school in States that accord them LEA status, are not included in Census Bureau poverty data. Eligibility of these particular LEAs will be determined on a case-by-case basis after review of information in the application that addresses as well as possible the poverty level of children these LEAs serve in relation to section 2102(3) of the ESEA.

With regard to component (b)(1) of the definition of “high-need LEA” in section 2102(3) of the ESEA, the Department interprets the phrase “a high percentage of teachers not teaching in the academic subjects or grade levels that the teachers were trained to teach” as being equivalent to “a high percentage of teachers teaching out of field.” The Department expects that LEAs that rely on component (b)(1) of the definition will demonstrate that they have a high percentage of teachers teaching out of field. The Department is not aware of any specific data that would demonstrate a “high percentage” of teachers teaching out of field. Accordingly, the Department will review this aspect of an LEA's proposed eligibility on a case-by-case basis. To decrease the level of uncertainty, an applicant might choose instead to demonstrate that each participating LEA meets the eligibility test for a high-need LEA under component (b)(2) of the definition.

For component (b)(2) of the definition of “high-need LEA,” the data that LEAs likely will find most readily available on the percentage of teachers with emergency, provisional, or temporary certification or licensing are the data they provide to their States for inclusion in the reports on the quality of teacher preparation that the States provide to the Department in October of each year as required by section 207 of the Higher Education Act of 1965, as amended (HEA). In these reports, States provide the percentage of teachers in their LEAs teaching on waivers of State certification, both on a statewide basis and in high-poverty LEAs. The “provisional” HEA Title II accountability data for the national percentage of teachers on waivers to full State certification is 1.5 percent for the 2006-2007 reporting year.

Because the Department is in the process of certifying all data received in the October 2007 State HEA section 207 reports, the data in these reports, including the national average of teachers on waivers of State certification, are still provisional. However, to provide adequate time for the preparation and review of project applications and award of new grants, the Department will use the 1.5 percent national average for purpose of this competition. Accordingly, an LEA will be considered to have met component (b)(2) of the definition if the data that it provided to the State for purpose of the State's October 2007 HEA section 207 report demonstrate that at least 1.5 percent of its teachers were on waivers of State certification requirements.

Consistent with the methodology the Department used in the FY 2007 competition under the Transition to Teaching program, in which participating LEAs were required to be “high-need LEAs” as defined in section 2102(3) of the ESEA, the Department will determine that an LEA with over 1.5 percent of its teachers having emergency, provisional, or temporary certification or licensing (i.e., teachers on waivers), as reflected in data the State uses to compile its October 2007 State report, has a “high percentage” of its teachers in this category. We expect that an LEA that chooses not to rely on the data provided to the State for purposes of October 2007 reporting required by section 207 of the HEA would provide other evidence that demonstrates that it meets the eligibility requirement under component (b)(2) of the statutory definition of “high-need LEA.” Moreover, should an LEA with a percentage of teachers on waivers of less than 1.5 percent believe it too has a “high percentage” of its teachers with emergency, provisional, or temporary certification or licensing, the Department will determine whether that LEA meets element (b)(2) of the definition of high-need LEA on a case-by-case basis.

IV. Application and Submission Information

1. Address To Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this program or competition as follows: CFDA number 84.363A.

Individuals with disabilities can obtain a copy of the application package in an alternative format (e.g., Braille, large print, audiotape, or computer diskette) by contacting the person listed under Alternative Format in section VIII of this notice.

2. Content and Form of Application Submission: Requirements concerning the content of an application, together with the forms you must submit, are in the application package for this program.

Page Limit: The application narrative (Part III of the application) is where you, the applicant, address the selection criteria that reviewers use to evaluate your application. Applicants are strongly encouraged to limit the application narrative to the equivalent of no more than 25 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section (Part III).

3. Submission Dates and Times:

Applications Available: March 3, 2008.

Deadline for Notice of Intent To Apply: April 2, 2008.

Dates of Pre-Application Meetings: The Department will hold two pre-application meetings for prospective applicants on March 31, 2008. The first meeting will be held from 9:30 a.m. to 12:30 p.m. and the second meeting (a repeat of the morning meeting) will be held from 2:30 p.m. to 5:30 p.m. at the U.S. Department of Education, Barnard Auditorium, 400 Maryland Avenue, SW., Washington, DC. Interested parties are invited to participate in either meeting to discuss the purpose of the School Leadership Program, competitive and invitational priorities, selection criteria, application content, submission requirements, and reporting requirements.

Individuals interested in attending this meeting are encouraged to pre-register by e-mailing their name, organization, and contact information with the subject heading PRE-APPLICATION MEETING to SLP@ed.gov. There is no registration fee for attending this meeting. For further information contact Beatriz Ceja, U.S. Department of Education, Office of Innovation and Improvement, room 4W210, 400 Maryland Avenue, SW., Washington, DC 20202. Telephone: (202) 205-5009 or by e-mail: SLP@ed.gov.

Assistance to Individuals With Disabilities at the Pre-Application Meeting

The meeting site is accessible to individuals with disabilities. If you will need an auxiliary aid or service to participate in the meeting (e.g., interpreting service, assistive listening device, or materials in an alternate format), notify the contact person listed in this notice at least two weeks before the scheduled meeting date. Although we will attempt to meet a request we receive after that date, we may not be able to make available the requested auxiliary aid or service because of insufficient time to arrange it.

Deadline for Transmittal of Applications: May 2, 2008.

Applications for grants under this program must be submitted electronically using the Grants.gov Apply site (Grants.gov). For information (including dates and times) about how to submit your application electronically, or in paper format by mail or hand delivery if you qualify for an exception to the electronic submission requirement, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: July 1, 2008.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section in this notice.

6. Other Submission Requirements: Applications for grants under this program must be submitted electronically unless you qualify for an exception to this requirement in accordance with the instructions in this section.

a. Electronic Submission of Applications.

Applications for grants under the School Leadership Grant Program, CFDA Number 84.363A, must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the School Leadership Grant Program at http://www.Grants.gov. You must search for the downloadable application package for this program by the CFDA number. Do not include the CFDA number's alpha suffix in your search (e.g., search for 84.363, not 84.363A).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Beatriz Ceja, U.S. Department of Education, 400 Maryland Avenue, SW., room 4W210, Washington, DC 20202-5960. FAX: (202) 401-8466.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.363A) 400 Maryland Avenue, SW., Washington, DC 20202-4260; or

By mail through a commercial carrier: U.S. Department of Education, Application Control Center, Stop 4260, Attention: (CFDA Number 84.363A) 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.363A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210. The maximum score for all of the selection criteria is 100 points. The maximum score for each criterion is indicated in parentheses. Each criterion also includes the factors that the reviewers will consider in determining how well an application meets the criterion. Any notes following a selection criterion are intended to provide guidance to help applicants in preparing their applications only, and are not statutory or regulatory requirements for this competition. The criteria are as follows:

A. Quality of the project design (40 points). The Secretary considers the quality of the design for the proposed project. In determining the quality of the design of the project, the Secretary considers the following factors:

1. The extent to which the goals, objectives, and outcomes to be achieved by the proposed project are clearly specified and measurable.

2. The extent to which the design of the proposed project reflects up-to-date knowledge from research and effective practice.

3. The extent to which the design of the proposed project is appropriate to, and will successfully address, the needs of the target population or other identified needs.

4. The extent to which the proposed project is part of a comprehensive effort to improve teaching and learning and support rigorous academic standards for students.

Note: The Secretary encourages applicants to address this criterion by discussing the overall project model, including such key elements as the project's research base, proposed participants, participant recruitment and selection strategies, plans for using incentives for teachers or individuals from other fields who want to become principals and assistant principals, activities to prepare and certify principals and assistant principals, program delivery strategies, plans for implementing on-site or school-based work experiences, activities for participant placement, and retention strategies that include follow-up support.

B. Quality of the project evaluation (25 points). The Secretary considers the quality of the evaluation to be conducted of the proposed project. In determining the quality of the evaluation, the Secretary considers the following factors:

1. The extent to which the methods of evaluation include the use of objective performance measures that are clearly related to the intended outcomes of the project and will produce quantitative and qualitative data to the extent possible.

2. The extent to which the methods of evaluation will provide performance feedback and permit periodic assessment of progress toward achieving intended outcomes.

Note: The Secretary encourages applicants to consider how this criterion may affect both their annual performance reports and the final evaluation submitted under 34 CFR 75.590. In addition, the Secretary encourages applicants to address this criterion by including proposed benchmarks for assessing both short- and long-term progress toward the specific project objectives and outcome measures they would use to assess the project's impact on teaching and learning or other important outcomes for project participants. Applicants may consider the use of logic models to identify the project's inputs, outputs, and outcomes.

The Secretary also encourages applicants to describe the qualifications of that evaluator as well as

• The types of data that will be collected;

• When these various types of data will be collected;

• What methods of data collections will be used;

• What evaluation instruments will be developed and when;

• How the data will be analyzed;

• When reports of evaluation results and outcomes will be available; and

• How the applicant will use the information collected through the evaluation to monitor progress of the funded project and to provide accountability information both about the success at the initial site or sites and about effective strategies for replication in other settings.

Applicants are encouraged to devote an appropriate level of resources to project evaluation.

C. Quality of project services (20 points). The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers one or more of the following factors;

1. The extent to which the services to be provided by the proposed project are appropriate to the needs of the intended recipients or beneficiaries of those services.

2. The extent to which the training or professional development services to be provided by the proposed project are of sufficient quality, intensity, and duration to lead to improvements in practice among the recipients of those services.

3. The likelihood that the services to be provided by the proposed project will lead to improvements in the achievement of students as measured against rigorous academic standards.

4. The extent to which the services to be provided by the proposed project involve the collaboration of appropriate partners for maximizing the effectiveness of project services.

Note: The Secretary encourages applicants to describe how the proposed services will be responsive to the leadership needs of the LEAs served by the project and how they will be different from or will strengthen current leadership programs, and how the proposed services will prepare, certify, place, and support highly qualified school leaders who are able to address the needs of the schools in which they will be placed.

D. Quality of the management plan (15 points). The Secretary considers the quality of the management plan for the proposed project. In determining the quality of the management plan for the proposed project, the Secretary considers the following factors:

1. The adequacy of the management plan to achieve the objectives of the proposed project on time and within budget, including clearly defined responsibilities, timelines, and milestones for accomplishing project tasks.

2. The extent to which the time commitments of the project director and principal investigator and other key project personnel are appropriate and adequate to meet the objectives of the proposed project.

3. The adequacy of procedures for ensuring feedback and continuous improvement in the operation of the proposed project.

Note: The Secretary encourages applicants to address this criterion by providing specific information such as—

• The name, title, and time commitment of each key person, and the responsibilities of each individual working to help implement the project's goals and objectives;

• A year-to-year timeline for undertaking important project activities, with benchmarks for determining whether the project is achieving its stated goals and objectives; and

• The strategies for monitoring whether or not the project is meeting its goals and objectives, and for making mid-course corrections, as appropriate.

2. Applicant's Past Performance and Compliance History: In accordance with 34 CFR 75.217(d)(3)(ii), the Secretary may consider an applicant's past performance and compliance history when evaluating applications and in making funding decisions.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Secretary has established two performance measures for assessing the effectiveness of the School Leadership Program: (1) the percentage of participants who become certified principals or assistant principals who are then placed and retained in schools in high-need LEAs, and (2) the percentage of principals or assistant principals who participate in professional development activities and show an increase in their pre-post scores on a standardized measure of principal skills and who are retained in their positions in schools in high-need LEAs for at least two years. Grantees will be expected to provide data on each component of the two measures.

VII. Agency Contacts

FOR FURTHER INFORMATION CONTACT: Beatriz Ceja, U.S. Department of Education, 400 Maryland Avenue, SW., room 4W210, Washington, DC 20202-5960. Telephone: (202) 205-5009 or or by e-mail: SLP@ed.gov.

If you use a TDD, call the FRS, toll free, at 1-800-877-8339.

VIII. Other Information

Alternative Format: Individuals with disabilities can obtain this document and a copy of the application package in an alternative format (e.g., Braille, large print, audiotape, or computer diskette) on request to the program contact person listed under FOR FURTHER INFORMATION CONTACT in section VII in this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 27, 2008.
Morgan S. Brown,
Assistant Deputy Secretary for Innovation and Improvement.

[FR Doc. E8-4044 Filed 2-29-08; 8:45 am]

BILLING CODE 4000-01-P